DEPARTMENT OF ENERGY

Federal Energy Regulatory Commission

Combined Notice of Filings

Take notice that the Commission has received the following Natural Gas Pipeline Rate and Refund Report filings:

Filings Instituting Proceedings

Docket Numbers: RP11-2376-000.

Applicants: Eastern Shore Natural Gas Company.

Description: Eastern Shore Natural Gas Company submits tariff filing per 154.204: DPA Definition Changes to be effective 9/14/2011.

Filed Date: 08/15/2011.

Accession Number: 20110815-5034.

Comment Date: 5 p.m. Eastern Time on Monday, August 29, 2011.

Docket Numbers: RP11-2377-000.

Applicants: Gas Transmission Northwest LLC.

Description: Gas Transmission Northwest LLC submits Petition for Approval of Stipulation and Agreement of Settlement.

Filed Date: 08/12/2011.

Accession Number: 20110812-5208.

Comment Date: 5 p.m. Eastern Time on Wednesday, August 24, 2011.

Docket Numbers: RP11-2378-000.

Applicants: Carolina Gas Transmission Corporation.

Description: Carolina Gas Transmission Corporation submits tariff filing per 154.402: 2011 Annual Charge Adjustment to be effective 10/1/2011.

Filed Date: 08/15/2011.

Accession Number: 20110815-5039.

Comment Date: 5 p.m. Eastern Time on Monday, August 29, 2011.

Docket Numbers: RP11-2379-000.

Applicants: PostRock KPC Pipeline, LLC.

Description: PostRock KPC Pipeline, LLC submits tariff filing per 154.313: KPC Lease Cost Adjustment/Removal of Lease Provisions to be effective 11/1/2011.

Filed Date: 08/15/2011.

Accession Number: 20110815-5088.

Comment Date: 5 p.m. Eastern Time on Monday, August 29, 2011.

Docket Numbers: RP11-2380-000.

Applicants: Florida Gas Transmission Company, LLC.

Description: Florida Gas Transmission Company, LLC submits tariff filing per 154.203: Compliance with CP09-455-000 to be effective 9/30/2011.

Filed Date: 08/15/2011.

Accession Number: 20110815-5121.

Comment Date: 5 p.m. Eastern Time on Monday, August 29, 2011.

Docket Numbers: RP11-2381-000.

Applicants: Dauphin Island Gathering Partners.

Description: Dauphin Island Gathering Partners submits tariff filing per 154.204: Negotiated Rates 2011-08-15 to be effective 8/16/2011.

Filed Date: 08/15/2011.

Accession Number: 20110815-5122.

Comment Date: 5 p.m. Eastern Time on Monday, August 29, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 16, 2011.
Nathaniel J. Davis, Sr.,
Deputy Secretary.

[FR Doc. 2011-21464 Filed 8-22-11; 8:45 am]

BILLING CODE 6717-01-P